DEPARTMENT OF COMMERCE

International Trade Administration

[A-533-502, A-549-502, A-489-501, A-201-805, A-580-809, A-583-008, A-583-814, C-489-502, A-351-809]

Certain Welded Carbon Steel Pipes and Tubes From India, Thailand, and the Republic of Turkey; Certain Circular Welded Non-Alloy Steel Pipe From Brazil, Mexico, the Republic of Korea, and Taiwan; and Certain Circular Welded Carbon Steel Pipes and Tubes From Taiwan: Continuation of Antidumping Duty Orders (India, Mexico, the Republic of Korea, Taiwan, Thailand, and the Republic of Turkey), Continuation of Countervailing Duty Order (the Republic of Turkey), and Revocation of Antidumping Duty Order (Brazil)

AGENCY: Enforcement and Compliance, International Trade Administration, Department of Commerce.

SUMMARY: As a result of the determinations by the U.S. Department of Commerce (Commerce) and the U.S. International Trade Commission (ITC) that revocation of the antidumping duty (AD) orders on: certain welded carbon steel pipes and tubes (pipes and tubes) from India, Thailand, and the Republic of Turkey (Turkey); certain circular welded non-alloy steel pipe (non-alloy steel pipe) from Mexico, the Republic of Korea (Korea), and Taiwan; and certain circular welded carbon steel pipes and tubes (circular pipes and tubes) from Taiwan would likely lead to continuation or recurrence of dumping and material injury to an industry in the United States, Commerce is publishing a notice of continuation of these AD orders. Additionally, as a result of determinations by Commerce and the ITC that revocation of the countervailing duty (CVD) order on pipes and tubes from Turkey would likely lead to continuation or recurrence of countervailable subsidies and material injury to an industry in the United States, Commerce is publishing a notice of continuation of this CVD order. Furthermore, as a result of the ITC's determination that revocation of the AD order on non-alloy steel pipe from Brazil is not likely to lead to continuation or recurrence of material injury to an industry in the United States, Commerce is revoking the AD order on pipes and tubes from Brazil.

DATES: AD Revocation (Brazil): Applicable February 7, 2023; AD and CVD Continuations (India, Mexico, Korea, Thailand, Taiwan, and Turkey): Applicable January 4, 2024.

FOR FURTHER INFORMATION CONTACT: Richard Roberts, AD/CVD Operations, Office I, and Jacqueline Arrowsmith, AD/CVD Operations, Office VII, Enforcement and Compliance, International Trade Administration, U.S. Department of Commerce, 1401 Constitution Avenue NW, Washington, DC 20230; telephone: (202) 482-3464 and (202) 482-5255, respectively.

SUPPLEMENTARY INFORMATION:

Background

On May 7, 1984, Commerce published the AD order on circular pipes and tubes from Taiwan.¹ Between March 7 and May 15, 1986, Commerce published the AD orders on pipes and tubes from India, Thailand, and Turkey and the CVD order on pipe and tubes from Turkey.² On November 2, 1992, Commerce published the AD orders on non-alloy steel pipe from Brazil, Mexico, Korea, and Taiwan.³

¹ See Certain Circular Welded Carbon Steel Pipes and Tubes from Taiwan: Antidumping Duty Order, 49 FR 19369 (May 7, 1984).

² See Antidumping Duty Order: Certain Welded Carbon Steel Standard Pipes and Tubes from India, 51 FR 17384 (May 12, 1986); Antidumping Duty Order: Circular Welded Carbon Steel Pipes and Tubes from Thailand, 51 FR 8341 (March 11, 1986); Antidumping Duty Order: Welded Carbon Steel Standard Pipe and Tube Products from Turkey, 51 FR 17784 (May 15, 1986); and Countervailing Duty Order: Certain Welded Carbon Steel Pipe and Tube Products from Turkey, 51 FR 7984 (March 7, 1986).

³ See Notice of Antidumping Duty Orders: Certain Circular Non-Alloy Steel Pipe from Brazil, the Republic of Korea, Mexico, Taiwan, and Venezuela and Amendment to Final Determination of Sales at Less Than Fair Value: Certain Circular Welded Non-Alloy Steel Pipe from Korea, 57 FR 49453 (November 2, 1992).

On January 3, 2023, Commerce initiated, and the ITC instituted the fifth sunset review of the AD orders on pipes and tubes from India, Thailand, and Turkey; non-alloy steel pipe from Brazil, Mexico, Korea, and Taiwan; circular pipes and tubes from Taiwan; and the CVD order on pipes and tubes from Turkey, pursuant to section 751© of the Tariff Act of 1930, as amended (the Act).⁴

⁴ See Initiation of Five-Year (Sunset) Reviews, 88 FR 63 (January 3, 2023); see also Circular Welded Pipe and Tube from Brazil, India, Mexico, South Korea, Taiwan, Thailand, and Turkey; Institution of Five-Year Reviews, 88 FR 107 (January 3, 2023).

As a result of its reviews, Commerce determined, pursuant to sections 751(c)(1) and 752(c) of the Act, that revocation of the AD orders on pipes and tubes from India, Thailand, and Turkey; non-alloy steel pipe from Brazil, Mexico, Korea, and Taiwan; and circular pipes and tubes from Taiwan would likely lead to the continuation or recurrence of dumping and, therefore, notified the ITC of the magnitude of the margins of dumping likely to prevail should these AD orders be revoked.⁵ Additionally, Commerce determined pursuant to sections 751(c)(1) and 752(b) of the Act, that revocation of the CVD order on pipes and tubes from Turkey would likely lead to continuation or recurrence of countervailable subsidies and notified the ITC of the net countervailable subsidy rates likely to prevail should the order be revoked.⁶

⁵ See Certain Welded Carbon Steel Pipes and Tubes from India, Thailand, and Republic of Turkey: Final Results of the Expedited Sunset Review of the Antidumping Duty Orders, 88 FR 29636 (May 8, 2023), and accompanying Issues and Decision Memorandum (IDM); and Certain Circular Welded Non-Alloy Steel Pipe from Brazil, Mexico, the Republic of Korea, and Taiwan and Certain Circular Welded Carbon Steel Pipes and Tubes from Taiwan: Final Results of Expedited Fifth Sunset Reviews of the Antidumping Duty Orders, 88 FR 29880 (May 9, 2023).

⁶ See Circular Welded Carbon Steel Pipes and Tubes from Turkey: Final Results of the Expedited Sunset Review of the Countervailing Duty Order, 88 FR 24757 (April 24, 2023), and accompanying IDM.

On January 4, 2024, the ITC published its determination, pursuant to sections 751(c) and 752(a) of the Act, that revocation of the AD orders on pipes and tubes from India, Thailand, and Turkey; the CVD order on pipes and tubes from Turkey; the AD orders on non-alloy steel pipe from Mexico, Korea, and Taiwan; and the AD order on circular pipes and tubes from Taiwan would likely lead to continuation or recurrence of material injury to an industry in the United States within a reasonably foreseeable time, but that revocation of the AD order on non-alloy steel pipe from Brazil would not be likely to lead to continuation or recurrence of material injury within a reasonably foreseeable time.⁷

⁷ See Circular Welded Pipe and Tube From Brazil, India, Mexico, South Korea, Taiwan, Thailand, and Turkey; Determination, 89 FR 478 (January 4, 2024); and Circular Welded Pipe and Tube from Brazil, India, Mexico, South Korea, Taiwan, Thailand, and Turkey: Investigation Nos. 701-TA-253 and 731-TA-132, 252, 271, 273, 532-534, and 536 (Fifth Review), 89 FR 478 (January 4, 2024).

Scope of the AD and CVD Orders

The products covered by the orders are pipes and tubes, non-alloy steel pipe, and circular pipes and tubes. For a complete description of the scope of the AD and CVD orders, see the appendix to this notice.

Continuation of the AD Orders and CVD Order on Pipes and Tubes From India, Thailand, and Turkey; Non-Alloy Steel Pipe From Mexico, Korea, and Taiwan; and Circular Pipes and Tubes From Taiwan

As a result of the determinations by Commerce and the ITC that revocation of the AD orders on pipes and tubes from India, Thailand, and Turkey; non-alloy steel pipe from Mexico, Korea, and Taiwan; circular pipes and tubes from Taiwan; and the CVD order on pipes and tubes from Turkey would likely lead to continuation or recurrence of dumping and countervailable subsidies and material injury to an industry in the United States, pursuant to section 751(d)(2) of the Act, Commerce hereby orders the continuation of the AD orders on pipes and tubes from India, Thailand, and Turkey; non-alloy steel pipe from Mexico, Korea, and Taiwan; circular pipes and tubes from Taiwan; and the CVD order on pipes and tubes from Turkey. U.S. Customs and Border Protection will continue to collect AD and CVD cash deposits at the rates in effect at the time of entry for all imports of subject merchandise.

The effective date of the continuation of the AD and CVD orders will be January 4, 2024. Commerce intends to initiate the next five-year reviews of the AD and CVD orders not later than 30 days prior to the fifth anniversary of the effective date of continuation.

Revocation of the AD Order on Non-Alloy Steel Pipe From Brazil

As a result of the determination by the ITC that revocation of the AD order on non-alloy steel pipe from Brazil would not be likely to lead to continuation or recurrence of material injury to an industry in the United States, pursuant to section 751(d)(2) of the Act, 19 CFR 351.222(i)(1)(iii), and 19 CFR 351.218(a), Commerce is revoking the AD order on non-alloy steel pipe from Brazil. Pursuant to section 751(d)(3) of the Act and 19 CFR 351.222 (i)(2)(i), the effective date of the revocation is February 7, 2023 (i.e., the fifth anniversary of the date of publication in the Federal Register of the notice of continuation of the AD order).⁸

⁸ See Certain Welded Carbon Steel Pipes and Tubes from India, Thailand, and Turkey; Certain Circular Welded Non Alloy Steel Pipe from Brazil, Mexico, the Republic of Korea, and Taiwan; and Certain Circular Welded Carbon Steel Pipes and Tubes from Taiwan: Continuation of Antidumping Duty Orders and Countervailing Duty Order, 83 FR 5402 (February 7, 2018).

Cash Deposits and Assessment of Duties on Non-Alloy Steel Pipe From Brazil

Commerce intends to notify CBP to terminate the suspension of liquidation and to discontinue the collection of AD cash deposits on entries of non-alloy steel pipe from Brazil, entered or withdrawn from warehouse, on or after February 7, 2023. Commerce intends to further instruct CBP to refund with interest all cash deposits on unliquidated entries made on or after February 7, 2023. Entries of subject merchandise prior to the effective date of revocation will continue to be subject to suspension of liquidation and AD deposit requirements and assessments.

Administrative Protective Order

This notice serves as the only reminder to parties subject to an administrative protective order (APO) of their responsibility concerning the return/destruction or conversion to judicial protective order of proprietary information disclosed under APO in accordance with 19 CFR 351.305(a)(3), which continues to govern business proprietary information in this segment of the proceedings. Timely written notification of the return or destruction of APO materials, or conversion to judicial protective order, is hereby requested. Failure to comply with the regulations and terms of the APO is a sanctionable violation.

Notification to Interested Parties

We are issuing and publishing this notice in accordance with sections 751(c) and (d)(2) and 777(i)(1) of the Act, and 19 CFR 351.218(f)(4) and 19 CFR 351.222(i)(1)(iii).

Dated: January 5, 2024.
Abdelali Elouaradia,
Deputy Assistant Secretary for Enforcement and Compliance.

Appendix—Scope of the Antidumping Duty Orders and Countervailing Duty Order

Certain Welded Carbon Steel Pipes and Tubes From India (A-533-502)

The products covered by this order are certain welded carbon steel standard pipes and tubes with an outside diameter of 0.375 inch or more but not over 16 inches. These products are commonly referred to in the industry as standard pipes and tubes produced to various American Society for Testing Materials (ASTM) specifications, most notably A-53, A-120, or A-135.

The antidumping duty order on certain welded carbon steel standard pipes and tubes from India, published on May 12, 1986, included standard scope language which used the import classification system as defined by Tariff Schedules of the United States, Annotated (TSUSA). The United States developed a system of tariff classification based on the international harmonized system of customs nomenclature. On January 1, 1989, the U.S. tariff schedules were fully converted from the TSUSA to the Harmonized Tariff Schedule of the United States (HTSUS). See, e.g., Certain Welded Carbon Steel Standard Pipes and Tubes from India; Preliminary Results of Antidumping Duty Administrative Reviews, 56 FR 26650, 26651 (June 10, 1991). As a result of this transition, the scope language we used in the 1991 Federal Register notice is slightly different from the scope language of the original final determination and antidumping duty order.

Until January 1, 1989, such merchandise was classifiable under item numbers 610.3231, 610.3234, 610.3241, 610.3242, 610.3243, 610.3252, 610.3254, 610.3256, 610.3258, and 610.4925 of the TSUSA. This merchandise is currently classifiable under HTS item numbers 7306.30.1000, 7306.30.5025, 7306.30.5032, 7306.30.5040, 7306.30.5055, 7306.30.5085, 7306.30.5090. As with the TSUSA numbers, the HTS numbers are provided for convenience and customs purposes. The written product description remains dispositive.

Certain Welded Carbon Steel Pipes and Tubes From Thailand (A-549-502)

The products covered by this order are certain circular welded carbon steel pipes and tubes from Thailand. The subject merchandise has an outside diameter of 0.375 inches or more, but not exceeding 16 inches. These products, which are commonly referred to in the industry as “standard pipe” or “structural tubing” are hereinafter designated as “pipes and tubes.” The merchandise is classifiable under the Harmonized Tariff Schedule of the United States (HTSUS) item numbers 7306.30.1000, 7306.30.5025, 7306.30.5032, 7306.30.5040, 7306.30.5055, 7306.30.5085 and 7306.30.5090. Although the HTSUS subheadings are provided for convenience and purposes of U.S. Customs and Border Protection (CBP), the written description of the merchandise subject to the Thailand Order is dispositive.⁹

⁹ See Circular Welded Carbon Steel Pipes and Tubes from Thailand: Final Results of Antidumping Duty Administrative Review and Final Determination of No Shipments; 2020-2021, 87 FR 60656 (October 6, 2022).

Certain Welded Carbon Steel Pipes and Tubes From Turkey (A-489-501)

The products covered by this order are welded carbon steel standard pipe and tube products with an outside diameter of 0.375 inch or more but not over 16 inches of any wall thickness, and are currently classified under the following Harmonized Tariff Schedule of the United States (HTSUS) subheadings: 7306.30.1000, 7306.30.5025, 7306.30.5032, 7306.30.5040, 7306.30.5055, 7306.30.5085, and 7306.30.5090.10. Although the HTSUS subheading is provided for convenience and customs purposes, the written description of the merchandise under investigation is dispositive. These products, commonly referred to in the industry as standard pipe or tube, are produced to various ASTM specifications, most notably A-120, A-53, or A-135.

Certain Welded Carbon Steel Pipes and Tubes From Turkey (C-489-502)

The products covered by this order are certain welded carbon steel pipe and tube with an outside diameter of 0.375 inch or more, but not over 16 inches, of any wall thickness (pipe and tube) from Turkey. These products are currently provided for under the Harmonized Tariff Schedule of the United

States (HTSUS) as item numbers 7306.30.10, 7306.30.50, and 7306.90.10. Although the HTSUS subheadings are provided for convenience and customs purposes, the written description of the merchandise is dispositive.

Certain Circular Welded Non-Alloy Steel Pipe From Brazil (A-351-809)

The products covered by this order are circular welded non-alloy steel pipes and tubes, of circular cross-section, not more than 406.4 mm (16 inches) in outside diameter, regardless of wall thickness, surface finish (black, galvanized, or painted), or end finish (plain end, bevelled end, threaded, or threaded and coupled). These pipes and tubes are generally known as standard pipes and tubes are intended for the low pressure conveyance of water, steam, natural gas, and other liquids and gases in plumbing and heating systems, air conditioning units, automatic sprinkler systems, and other related uses, and generally meet ASTM A-53 specifications.

Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of these orders, except line pipe, oil country tubular goods, boiler tubing, mechanical tubing, pipe and tube hollows for redraws, finished scaffolding, and finished conduit. Standard pipe that is dual or triple certified/stenciled that enters the U.S. as line pipe of a kind used for oil or gas pipelines is also not included in these orders.

Imports of the products covered by these orders are currently classifiable under the following Harmonized Tariff Schedule (HTS) subheadings: 7306.30.10.00, 7306.30.50.25, 7306.30.50.32, 7306.30.50.40, 7306.30.50.55, 7306.30.50.85, and 7306.30.50.90. Although the HTS subheadings are provided for convenience and customs purposes, our written description of the scope of these orders is dispositive.

Certain Circular Welded Non-Alloy Steel Pipe From Mexico (A-201-805)

The products covered by this order are circular welded non-alloy steel pipes and tubes, of circular cross-section, not more than 406.4 mm (16 inches) in outside diameter, regardless of wall thickness, surface finish (black, galvanized, or painted), or end finish (plain end, bevelled end, threaded, or threaded and coupled). These pipes and tubes are generally known as standard pipes and tubes are intended for the low pressure conveyance of water, steam, natural gas, and other liquids and gases in plumbing and heating systems, air conditioning units, automatic sprinkler systems, and other related uses, and generally meet ASTM A-53 specifications.

Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of these orders, except line pipe, oil country tubular goods, boiler tubing, mechanical tubing, pipe and tube hollows for redraws, finished scaffolding, and finished conduit. Standard pipe that is dual or triple certified/stenciled that enters the U.S. as line pipe of a kind used for oil or gas pipelines is also not included in these orders.

Imports of the products covered by these orders are currently classifiable under the following Harmonized Tariff Schedule (HTS) subheadings: 7306.30.10.00, 7306.30.50.25, 7306.30.50.32, 7306.30.50.40, 7306.30.50.55, 7306.30.50.85, and 7306.30.50.90. Although the HTS subheadings are provided for convenience and customs purposes, our written description of the scope of these orders is dispositive.

Certain Circular Welded Non-Alloy Steel Pipe From Korea (A-580-809)

The products covered by this order are circular welded non-alloy steel pipes and tubes, of circular cross-section, not more than 406.4 mm (16 inches) in outside diameter, regardless of wall thickness, surface finish (black, galvanized, or painted), or end finish (plain end, bevelled end, threaded, or threaded and coupled). These pipes and tubes are generally known as standard pipes and tubes are intended for the low pressure conveyance of water, steam, natural gas, and other liquids and gases in plumbing and heating systems, air conditioning units, automatic sprinkler systems, and other related uses, and generally meet ASTM A-53 specifications.

Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of these orders, except line pipe, oil country tubular goods, boiler tubing, mechanical tubing, pipe and tube hollows for redraws, finished scaffolding, and finished conduit. Standard pipe that is dual or triple certified/stenciled that enters the U.S. as line pipe of a kind used for oil or gas pipelines is also not included in these orders.

Imports of the products covered by these orders are currently classifiable under the following Harmonized Tariff Schedule (HTS) subheadings: 7306.30.10.00, 7306.30.50.25, 7306.30.50.32, 7306.30.50.40, 7306.30.50.55, 7306.30.50.85, and 7306.30.50.90. Although the HTS subheadings are provided for convenience and customs purposes, our written description of the scope of these orders is dispositive.

Certain Circular Welded Non-Alloy Steel Pipe From Taiwan (A-583-814)

The products covered by this order are (1) circular welded non-alloy steel pipes and tubes, of circular cross section over 114.3 millimeters (4.5 inches), but not over 406.4 millimeters (16 inches) in outside diameter, with a wall thickness of 1.65 millimeters (0.065 inches) or more, regardless of surface finish (black, galvanized, or painted), or end-finish (plain end, beveled end, threaded, or threaded and coupled); and (2) circular welded non-alloy steel pipes and tubes, of circular cross-section less than 406.4 millimeters (16 inches), with a wall thickness of less than 1.65 millimeters (0.065 inches), regardless of surface finish (black, galvanized, or painted) or end-finish (plain end, beveled end, threaded, or threaded and coupled). These pipes and tubes are generally known as standard pipes and tubes and are intended for the low pressure conveyance of water, steam, natural gas, air, and other liquids and gases in plumbing and heating systems, air conditioning units, automatic sprinkling systems, and other related uses, and generally meet ASTM A-53 specifications. Standard pipe may also be used for light load-bearing applications, such as for fence-tubing and as structural pipe tubing used for framing and support members for construction, or load-bearing purposes in the construction, shipbuilding, trucking, farm-equipment, and related industries. Unfinished conduit pipe is also included in this order.

All carbon steel pipes and tubes within the physical description outlined above are included within the scope of this order, except line pipe, oil country tubular goods, boiler tubing, mechanical tubing, pipe and tube hollows for redraws, finished scaffolding, and finished conduit. Standard pipe that is dual or triple certified/stenciled that enters the U.S. as line pipe of a kind or used for oil and gas pipelines is also not included in this investigation.

Imports of the products covered by this order are currently classifiable under the following Harmonized Tariff Schedule (HTS) subheadings, 7306.30.10.00, 7306.30.50.25, 7306.30.50.32, 7306.30.50.40, 7306.30.50.55, 7306.30.50.85, 7306.30.50.90. Although the HTS subheadings are provided for convenience and customs purposes, our written description of the scope of this order is dispositive.

Certain Circular Welded Carbon Steel Pipes and Tubes From Taiwan (A-583-008)

The merchandise covered by this order is certain circular welded carbon steel pipes and tubes from Taiwan, which are defined as: welded carbon steel pipes and tubes, of circular cross section, with walls not thinner than 0.065 inch, and 0.375 inch or more but not over 4.5 inches in outside diameter, currently classified under Harmonized Tariff Schedule of the United States (HTSUS) item numbers 7306.30.5025, 7306.30.5032, 7306.30.5040, and 7306.30.5055. Although the HTSUS subheading is provided for convenience and customs purposes, the written description of the merchandise under investigation is dispositive.¹⁰

¹⁰ See Certain Circular Welded Carbon Steel Pipes and Tubes from Taiwan: Final Results of Antidumping Duty Administrative Review, 2018-2019, 86 FR 6302 (January 21, 2020).

[FR Doc. 2024-00397 Filed 1-10-24; 8:45 am]

BILLING CODE 3510-DS-P